DEPARTMENT OF THE INTERIOR

Bureau of Land Management

[LLES002000.L1430000.FQ0000; FLES 041063-01]

Public Land Order No. 7765; Partial Revocation Jupiter Inlet Lighthouse Withdrawal; Florida

AGENCY: Bureau of Land Management, Interior.

ACTION: Public Land Order.

SUMMARY: The order revokes the withdrawal established by two Executive Orders insofar as they affect 22.95 acres of land reserved on behalf of the United States Coast Guard for lighthouse purposes. The reservation is no longer needed. This order also returns administrative jurisdiction of the land to the Bureau of Land Management to continue to be managed as part of the Jupiter Inlet Lighthouse Outstanding Natural Area.

DATES: Effective Date: May 2, 2011.

FOR FURTHER INFORMATION CONTACT: Vicky Craft, Realty Specialist, BLM-ES Jackson Field Office, Jackson Field Office, 411 Briarwood Drive, Suite 404, Jackson, Mississippi 39206-3039, 601-977-5435.

SUPPLEMENTARY INFORMATION: The United States Coast Guard has determined the lighthouse reservation is no longer needed on the land described in this Order and has requested the partial revocation. The land will continue to be managed in accordance with Section 202 of the Consolidated Natural Resource Act of 2008 (43 U.S.C. 1787), which created the Jupiter Inlet Lighthouse Outstanding Natural Area, and which withdrew the land from all forms of entry, appropriation, or disposal under the public land laws, location, entry, and patent under the mining laws, and operation of the mineral leasing and geothermal leasing laws and the mineral material laws.

Order

By virtue of the authority vested in the Secretary of the Interior by Section 204 of the Federal Land Policy and Management Act of 1976, 43 U.S.C. 1714, it is ordered as follows:

The withdrawal established by Executive Order dated October 22, 1854, as amended by Executive Order No. 4254, dated June 12, 1925, and partially revoked by Public Land Order No. 7202 (61 FR 29758 (1996)), which reserved public land on Jupiter Inlet, Florida, for lighthouse purposes, is hereby partially revoked as to the following described land:

Tallahassee Meridian

T. 40 S., R. 43 E.,

Sec. 31, lot 17.

The area described contains 22.95 acres in Palm Beach County.

Dated: April 20, 2011.
Wilma A. Lewis,
Assistant Secretary—Land and Minerals Management.

[FR Doc. 2011-10587 Filed 4-29-11; 8:45 am]

BILLING CODE 4310-GJ-PA